DEPARTMENT OF JUSTICE

Office of Justice Programs

[OJP (NIJ) Docket No. 1703]

CBRN Protective Ensemble Standard Workshop

AGENCY: National Institute of Justice (NIJ), Justice.

ACTION: Notice of the CBRN Protective Ensemble Standard Workshop.

SUMMARY: The NIJ and the Technical Support Working Group are hosting a workshop in conjunction with the 2105 Personal Protective Equipment Workshop in Fort Lauderdale, FL. The focus of the workshop is the research conducted in support of the revision of NIJ Standard 0116.00 CBRN Protective Ensemble Standard for Law Enforcement, found at https://www.ncjrs.gov/pdffiles1/nij/221916.pdf. The session is intended to inform manufacturers, test laboratories, certification bodies, and other interested parties of these standards development efforts. The workshop is being held specifically to discuss recent progress made toward the revision and to receive input, comments, and recommendations.

Space is limited at the workshop, and as a result, only 50 participants will be allowed to register for each session. It is requested that each organization limit their representatives to no more than two per organization. Exceptions to this limit may occur, should space allow. Participants planning to attend are responsible for their own travel arrangements.

DATES: The workshop will be held on Friday, December 18, 2015 from 9 a.m. to 12 p.m.

Location: Fort Lauderdale Marriott Harbor Beach Resort & Spa, 3030 Holiday Drive, Fort Lauderdale, FL 33316.

FOR FURTHER INFORMATION CONTACT: For information about the NIJ CBRN Ensemble standard, please contact Brian Montgomery, by telephone at (202) 353-9786 [Note: this is not a toll-free telephone number], or by email at brian.montgomery@usdoj.gov. For general information about NIJ standards, please visit http://www.nij.gov/standards.

Nancy Rodriguez,
Director, National Institute of Justice.

[FR Doc. 2015-30974 Filed 12-8-15; 8:45 am]

BILLING CODE 4410-18-P